COMMODITY FUTURES TRADING COMMISSION

Energy and Environmental Markets Advisory Committee Meeting

The Commodity Futures Trading Commission's Energy and Environmental Markets Advisory Committee will conduct a meeting on Wednesday, September 16, 2009, from 8 a.m. until 11 a.m. The meeting will be convened in the Commission's New York Regional Office, 140 Broadway, 19th Floor, New York, NY 10005, and is open to the public. Members of the public can view the meeting onsite by webcast at two additional locations: the Commission's Washington, DC headquarters, Three Lafayette Centre, 1155 21st Street, NW., Washington, DC 20581; and the Commission's Chicago Regional Office, 525 West Monroe Street, Suite 1100, Chicago, IL 60661. In addition, members of the public may listen to the meeting by telephone. The public access call-in numbers are (866) 312-4390 (U.S.) and (404) 537-3379 (International). When calling in, please request Conference No. 20577008.

To view the live webcast from a desktop PC with Internet access go to http://www.cftc.gov and click on the view webcast link. For PowerPoint presentations go to http://www.cftc.gov, click on view webcast link and select “click here to download PowerPoint presentations.”

The purpose of the meeting is to discuss energy and environmental market issues. The meeting will be chaired by Commissioner Bart Chilton, who is Chairman and Designated Federal Official of the Energy and Environmental Markets Advisory Committee.

The agenda will consist of the following:

• Call to Order and Introduction.

• Opening Remarks by Commissioners.

• Energy Market Overview.

• Recent CFTC Hearings on Position Limits and Hedge Exemptions.

• Regulatory Reform Proposal and Proposed Legislation to Regulate OTC Derivatives.

• Carbon Markets and Proposed Legislation.

• Discussion of Future Meetings and Topics of Interest and Adjournment.

Any member of the public who wishes to file a written statement with the committee should mail a copy of the statement to the attention of: Energy and Environmental Markets Advisory Committee, c/o Commissioner Bart Chilton, Commodity Futures Trading Commission, Three Lafayette Centre, 1155 21st Street, NW., Washington, DC 20581, before the meeting. Members of the public who wish to make oral statements should inform Commissioner Chilton in writing at the foregoing address at least three business days before the meeting. Reasonable provision will be made, if time permits, for oral presentations of no more than five minutes each in duration.

For further information concerning this meeting, please contact Commissioner Bart Chilton's office at (202) 418-5060.

Issued by the Commission in Washington, DC on August 26, 2009.
David A. Stawick,
Secretary of the Commission.

[FR Doc. E9-21028 Filed 8-31-09; 8:45 am]

BILLING CODE 6351-01-P